DEPARTMENT OF AGRICULTURE

Agricultural Marketing Service

[Docket # AMS-2006-0111; FV-06-315]

United States Standards for Grades of Summer Squash

AGENCY: Agricultural Marketing Service, USDA.

ACTION: Notice; withdrawal.

SUMMARY: The Agricultural Marketing Service (AMS) is withdrawing the notice soliciting comments on its proposal to amend the voluntary United States Standards for Grades of Summer Squash. After reviewing and considering the comments received, the agency has decided not to proceed with this action.

EFFECTIVE DATE: May 4, 2007.

FOR FURTHER INFORMATION CONTACT: Vincent J. Fusaro, Standardization Section, Fresh Products Branch, (202) 720-2185. The United States Standards for Grades of Summer Squash are available by accessing the Fresh Products Branch Web site at: http://www.ams.usda.gov/standards/stanfrfv.htm.

Background

AMS had identified the United States Standards for Grades of Summer Squash for possible revisions. The standards were last revised on January 6, 1984.

On August 6, 2006, AMS published a notice in the Federal Register (71 FR 44607) soliciting comments on a possible revision to the United States Standards for Grades of Summer Squash. The comments are available by accessing AMS, Fresh Products Branch Web site at: http://www.ams.usda.gov/fv/fpbdocketlist.htm. The comment period ended October 7, 2006.

During that sixty-day comment period, one comment was submitted opposing the revisions. The commentor stated, “the different varietal characteristics in each type could stop what would work as a “fancy” being packed for one area and put undue strain on the “medium” market because a particular variety of squash does not have the genetics to meet size criteria.” The commentor also stated, “some regions can only successfully grow certain seed varieties and with the characteristics of some varieties, size restrictions could make it prohibitive for some areas to produce summer squash all together.”

After reviewing and considering the comments received, AMS has decided not to proceed with the proposed revisions to the standards.

Authority: 7 U.S.C. 1621-1627.

Dated: May 1, 2007.
Lloyd C. Day,
Administrator, Agricultural Marketing Service.

[FR Doc. E7-8574 Filed 5-3-07; 8:45 am]

BILLING CODE 3410-02-P